DEPARTMENT OF LABOR

[Agency Docket Number DOL-2023-xxxx]

Efforts by Certain Foreign Countries To Eliminate the Worst Forms of Child Labor; Identify Child Labor, Forced Labor, and Forced or Indentured Child Labor in the Production of Goods in Foreign Countries; and Share Business Practices To Reduce the Likelihood of Forced Labor or Child Labor in the Production of Goods

AGENCY: The Bureau of International Labor Affairs, United States Department of Labor.

ACTION: Notice; request for information and invitation to comment.

SUMMARY: This notice is a request for information and/or comment on three reports issued by the Bureau of International Labor Affairs (ILAB) regarding child labor and forced labor in certain foreign countries. Relevant information submitted by the public will be used by the Department of Labor (DOL) in preparing its ongoing reporting as required under Congressional mandates and a Presidential directive.

DATES: Submitters of information are requested to provide their submission to DOL's Office of Child Labor, Forced Labor, and Human Trafficking (OCFT) at the email or physical address below by December 15, 2023.

ADDRESSES:

To Submit Information: Information should be submitted directly to OCFT, Bureau of International Labor Affairs, U.S. Department of Labor. Comments, identified as Docket No. DOL-2023-xxxx, may be submitted by any of the following methods:

Federal eRulemaking Portal: The portal includes instructions for submitting comments. Parties submitting responses electronically are encouraged not to submit paper copies.

Facsimile (fax): OCFT at 202-693-4830.

Mail, Express Delivery, Hand Delivery, and Messenger Service (1 copy): Matthew Fraterman, U.S. Department of Labor, OCFT, Bureau of International Labor Affairs, 200 Constitution Avenue NW, Room S-5315, Washington, DC 20210.

Email: Email submissions should be addressed to Matthew Fraterman (Fraterman.matthew@dol.gov).

508 Compliance: Pursuant to section 508 of the Rehabilitation Act of 1973 (29 U.S.C. 794d), as amended. Section 508 became enforceable on June 21, 2001, and the Revised 508 standards issued by the United States Access Board (36 CFR part 1194), January 2018 require that Information and Communication Technology (ICT) procured, developed, maintained, and used by Federal departments and agencies is accessible to and usable by Federal employees and members of the public including people with disabilities. All documents received in electronic format must be accessible using assistive technologies such as a screen reader, e.g., Job Aid with Speech (JAWS), NonVisual Desktop Access (NVDA), ZoomText, to name a few. The product should also be navigable using other means such as a keyboard or voice commands. Accessible document formats are either Microsoft Word or equivalent and Portable Document Format with OCR.

The Department of Labor requests that your submissions through the portal comply with our DOL Policies as well as the 508 Standards as referenced above.

FOR FURTHER INFORMATION CONTACT: Matthew Fraterman (Fraterman.matthew@dol.gov). Telephone: 202-693-4770.

SUPPLEMENTARY INFORMATION: The 2022 Findings on the Worst Forms of Child Labor (TDA Report), published on September 26, 2023, assesses efforts of 131 countries to eliminate the worst forms of child labor in 2022 and assesses whether countries made significant, moderate, minimal, or no advancement during that year. It also suggests actions foreign countries can take to eliminate the worst forms of child labor through legislation, enforcement, coordination, policies, and social programs. The 2022 edition of the List of Goods Produced by Child Labor or Forced Labor (TVPRA List), published on September 21, 2022, makes available to the public a list of goods from countries that ILAB has reason to believe are produced by child labor or forced labor in violation of international standards, including, to the extent practicable, goods that are produced with inputs that are produced with forced labor or child labor. DOL welcomes new information on any of the goods identified on the TVPRA List. Finally, the List of Products Produced by Forced or Indentured Child Labor (E.O. List), provides a list of products, identified by country of origin, that DOL, in consultation and cooperation with the Departments of State (DOS) and Homeland Security (DHS), has a reasonable basis to believe might have been mined, produced, or manufactured with forced or indentured child labor. Relevant information submitted by the public will be used by DOL in preparing the next edition of the TDA Report, to be published in 2024; the next edition of the TVPRA List, which will also be published in 2024; and for possible updates to the E.O. List as needed.

This notice is also a request for information and/or comment on Comply Chain: Business Tools for Labor Compliance in Global Supply Chains (Comply Chain). ILAB is seeking information on current practices of firms, business associations, and other private sector groups to reduce the likelihood of child labor and forced labor in the production of goods. This information and/or comment is sought to fulfill ILAB's mandate under the Trafficking Victims Protection Reauthorization Act of 2005 (TVPRA) to work with persons who are involved in the production of goods made with forced labor or child labor. Comply Chain seeks to address this mandate through the creation of a standard set of practices for worker-driven social compliance that will reduce the likelihood that such persons will produce goods using forced labor or child labor. Comply Chain also achieves a much broader purpose by actively supporting the efforts of companies that seek to address these issues within their own supply chains. Relevant information and/or comment submitted to ILAB will be used to improve and update Comply Chain to better meet the mandates of the TVPRA and help companies and industry groups seeking to develop robust social compliance systems for their global production.

I. The Trade and Development Act of 2000 (TDA), Public Law 106-200 (2000), established eligibility criterion for receipt of trade benefits under the Generalized System of Preferences (GSP). The TDA amended the GSP reporting requirements of section 504 of the Trade Act of 1974, 19 U.S.C. 2464, to require that the President's annual report on the status of internationally recognized worker rights include “findings by the Secretary of Labor with respect to the beneficiary country's implementation of its international commitments to eliminate the worst forms of child labor.”

The TDA Conference Report clarifies this mandate, indicating that the President consider the following when considering whether a country is complying with its obligations to eliminate the worst forms of child labor: (1) whether the country has adequate laws and regulations proscribing the worst forms of child labor; (2) whether the country has adequate laws and regulations for the implementation and enforcement of such measures; (3) whether the country has established formal institutional mechanisms to investigate and address complaints relating to allegations of the worst forms of child labor; (4) whether social programs exist in the country to prevent the engagement of children in the worst forms of child labor, and to assist with the removal of children engaged in the worst forms of child labor; (5) whether the country has a comprehensive policy for the elimination of the worst forms of child labor; and (6) whether the country is making continual progress toward eliminating the worst forms of child labor.

DOL fulfills this reporting mandate through annual publication of the U.S. Department of Labor's Findings on the Worst Forms of Child Labor. To access the 2022 TDA Report please visit https://www.dol.gov/agencies/ilab/resources/reports/child-labor/findings.

II. Section 105(b) of the Trafficking Victims Protection Reauthorization Act of 2005 (“TVPRA of 2005”), Public Law 109-164 (2006), 22 U.S.C. 7112(b), as amended by section 133 of the Frederick Douglass Trafficking Victims Prevention and Protection Reauthorization Act of 2018, Public Law 115-425 (2019), directs the Secretary of Labor, acting through ILAB, to “develop and make available to the public a list of goods from countries that [ILAB] has reason to believe are produced by forced labor or child labor in violation of international standards, including, to the extent practicable, goods that are produced with inputs that are produced with forced labor or child labor” (TVPRA List). It also asks ILAB “to work with persons who are involved in the production of goods on the list . . . to create a standard set of practices that will reduce the likelihood that such persons will produce goods using [child labor or forced labor]” (Comply Chain).

Pursuant to this mandate, DOL published in the Federal Register a set of procedural guidelines that ILAB follows in developing the TVPRA List. 72 FR 73374 (Dec. 27, 2007). The guidelines set forth the criteria by which information is evaluated; established procedures for public submission of information to be considered by ILAB; and identified the process ILAB follows in maintaining and updating the List after its initial publication. DOL published an update to the procedural guidelines to incorporate the expanded requirement to include “to the extent practicable, goods that are produced with inputs that are produced with forced labor or child labor. 85 FR 29487 (May 15, 2020). ILAB will amend the procedural guidelines as necessary.

ILAB published its first TVPRA List on September 30, 2009, and has issued 9 updates. The next TVPRA List will be published in 2024. For a copy of previous editions of the TVPRA List and other materials relating to the TVPRA List, see ILAB's TVPRA web page.

III. Executive Order No. 13126 (E.O. 13126) declared that it was “the policy of the United States Government . . . that the executive agencies shall take appropriate actions to enforce the laws prohibiting the manufacture or importation of goods, wares, articles, and merchandise mined, produced, or manufactured wholly or in part by forced or indentured child labor.” Pursuant to E.O. 13126, and following public notice and comment, the Department of Labor published in the January 18, 2001, Federal Register, a list of products (“E.O. List”), identified by country of origin, that the Department, in consultation and cooperation with the Departments of State (DOS) and Treasury [relevant responsibilities are now within the Department of Homeland Security (DHS)], had a reasonable basis to believe might have been mined, produced, or manufactured with forced or indentured child labor. 66 FR 5353 (Jan. 18, 2001). In addition to the List, the Department also published on January 18, 2001, “Procedural Guidelines for Maintenance of the List of Products Requiring Federal Contractor Certification as to Forced or Indentured Child Labor,” which provide for maintaining, reviewing, and, as appropriate, revising the E.O. List. 66 FR 5351 (Jan. 18, 2001).

Pursuant to sections D through G of the Procedural Guidelines, the E.O. List may be updated through consideration of submissions by individuals or through OCFT's own initiative. ILAB released its initial E.O. List in 2001, and has revised it several times since then, each time after public notice and comment as well as consultation with DOS and DHS. As of July 13, 2022, the E.O. List comprises 34 products from 26 countries. Access to the current E.O. List, Procedural Guidelines, and related information is available online.

Information Requested and Invitation to Comment: Interested parties are invited to comment and provide information regarding these reports. DOL requests comments on or information relevant to updating the findings and suggested government actions for countries reviewed in the TDA Report, assessing each country's individual advancement toward eliminating the worst forms of child labor during the current reporting period compared to previous years, and maintaining and updating the TVPRA and E.O. Lists.

Materials submitted should be confined to the specific topics of the TDA Report, the TVPRA List, and the E.O. List. DOL will generally consider sources with dates up to five years old (i.e., data not older than January 1, 2019). DOL appreciates the extent to which submissions clearly indicate the time period to which they apply. In the interest of transparency in our reporting, classified information will not be accepted. Where applicable, information submitted should indicate its source or sources, and copies of the source material should be provided. If primary sources are utilized, such as research studies, interviews, direct observations, or other sources of quantitative or qualitative data, details on the research or data-gathering methodology should be provided. Please see the TDA Report, TVPRA List, and E.O. List for a complete explanation of relevant terms, definitions, and reporting guidelines employed by DOL. Per our standard procedures, submissions will be published on the ILAB web page.

IV. Section 105(b)(2)(D) of the Trafficking Victims Protection Reauthorization Act (TVPRA) of 2005 mandates that ILAB “work with persons who are involved in the production of goods on [ILAB's List of Goods Produced by Child Labor or Forced Labor] to create a standard set of practices that will reduce the likelihood that such persons will produce goods using [forced and child labor].”

Many firms have policies, activities, and/or systems in place to monitor labor rights in their supply chains and remediate violations. Such policies, activities, and systems vary depending on location, industry, and many other factors. ILAB seeks to identify practices that have been effective in specific contexts, analyze their replicability, and disseminate those that have potential to be effective on a broader scale through Comply Chain.

Information Requested and Invitation to Comment: In addition to general comments on the existing publication of Comply Chain, ILAB is seeking information on current practices of firms, business associations, and other private sector groups to reduce the likelihood of child labor and forced labor in the production of goods. ILAB welcomes any and all input. Examples of materials could include, but are not limited to: (1) Codes of conduct; (2) Sets of standards used for implementation of codes in specific industries or locations or among particular labor populations; (3) Auditing/monitoring systems, or components of such systems, as well as related systems for enforcement of labor standards across a supply chain; (4) Strategies for monitoring sub-tier suppliers, informal workplaces, homework, and other challenging environments; (5) Training modules and other mechanisms for communicating expectations to stakeholders which incorporate worker input; (6) Traceability models or experiences; (7) Remediation strategies for children and/or adults found in conditions of forced or child labor; (8) Reporting-related practices and practices related to independent review; (9) Projects at the grassroots level which address underlying issues or root causes of child labor or forced labor; (10) and/or any other relevant practices.

In addition, ILAB is seeking information on current practices of governments to collaborate with private sector actors through public-private partnerships to reduce the likelihood of child labor and forced labor in the production of goods. Submissions may include policy documents, reports, statistics, case studies, and many other formats. In addition, ILAB welcomes submissions of reports, analyses, guidance, toolkits, and other documents in which such practices have been compiled or analyzed by third-party groups. Information should be submitted to the addresses and within the time period set forth above. DOL seeks information that can be used to inform the development of tools and resources to be disseminated publicly on the DOL website and/or in other publications. However, in disseminating information, DOL will conceal, to the extent permitted by law, the identity of the submitter and/or the individual or company using the practice in question, upon request. Internal, confidential documents that cannot be shared with the public will not be used. Submissions containing confidential or personal information may be redacted by DOL before being made available to the public, in accordance with applicable laws and regulations. DOL does not commit to responding directly to submissions or returning submissions to the submitters, but DOL may communicate with the submitter regarding any matters relating to the submission.

This notice is a general solicitation of comments from the public.

Authority: 22 U.S.C. 7112(b)(2)(C) & (D) and 19 U.S.C. 2464; Executive Order 13126.

Signed at Washington, DC, this 25th day of September, 2023.
Thea Lee,
Deputy Undersecretary for International Affairs.

[FR Doc. 2023-21416 Filed 9-28-23; 8:45 am]

BILLING CODE 4510-28-P